DEPARTMENT OF HOMELAND SECURITY

Federal Emergency Management Agency

[Docket ID FEMA-2017-0002; Internal Agency Docket No. FEMA-B-1750]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: September 16, 2017.
Roy E. Wright,
Deputy Associate Administrator for Insurance and Mitigation, Department of Homeland Security, Federal Emergency Management Agency.

State and county | Location and case No. | Chief executive officer of community | Community map repository | Online location of letter of map revision | Effective date of modification | Community No.
Arizona:
Maricopa | City of Glendale (17-09-0883P) | The Honorable Jerry Weiersy, Mayor, City of Glendale, 5850 West Glendale Avenue, Glendale, AZ 85301 | City Hall, 5850 West Glendale Avenue, Glendale, AZ 85301 | http://www.msc.fema.gov/lomc | Dec. 22, 2017 | 040045
Maricopa | City of Peoria (17-09-0883P) | The Honorable Cathy Carlat, Mayor, City of Peoria, 8401 West Monroe Street, Peoria, AZ 85345 | City Hall, 8401 West Monroe Street, Peoria, AZ 85345 | http://www.msc.fema.gov/lomc | Dec. 22, 2017 | 040050
Maricopa | City of Phoenix (17-09-0814P) | The Honorable Greg Stanton, Mayor, City of Phoenix, 200 West Washington Street, 11th Floor, Phoenix, AZ 85003 | Street Transportation Department, 200 West Washington Street, 5th Floor, Phoenix, AZ 85003 | http://www.msc.fema.gov/lomc | Dec. 22, 2017 | 040051
California: San Diego | Unincorporated Areas of San Diego County (17-09-0655P) | The Honorable Dianne Jacob, Chair, Board of Supervisors, San Diego County, 1600 Pacific Highway, Room 335, San Diego, CA 92101 | Department of Public Works, Flood Control, 5510 Overland Avenue, Suite 410, San Diego, CA 92123 | http://www.msc.fema.gov/lomc | Dec. 21, 2017 | 060284
Florida:
Duval | City of Jacksonville (17-04-4330P) | The Honorable Lenny Curry, Mayor, City of Jacksonville, City Hall at St. James Building, 117 West Duval Street, Suite 400, Jacksonville, FL 32202 | City Hall, 117 West Duval Street, Jacksonville, FL 32202 | http://www.msc.fema.gov/lomc | Dec. 15, 2017 | 120077
Leon | Unincorporated Areas of Leon County (17-04-2660P) | Mr. Vincent Long, County Administrator, Leon County, 301 South Monroe Street, 5th Floor, Tallahassee, FL 32301 | Leon County Courthouse, 301 South Monroe Street, Tallahassee, FL 32301 | http://www.msc.fema.gov/lomc | Dec. 19, 2017 | 120143
Illinois:
Tazewell | City of Washington (17-05-0896P) | The Honorable Gary W. Manier, Mayor, City of Washington, 301 Walnut Street, Washington, IL 61571 | City Hall, 301 Walnut Street, Washington, IL 61571 | http://www.msc.fema.gov/lomc | Nov. 9, 2017 | 170655
Tazewell | Unincorporated Areas of Tazewell County (17-05-0896P) | The Honorable David Zimmerman, Chairman, Tazewell County Board, McKenzie Building, 11 South 4th Street, Suite 432, Pekin, IL 61554 | McKenzie Building, 4th Floor, 11 South 4th Street, Pekin, IL 61554 | http://www.msc.fema.gov/lomc | Nov. 9, 2017 | 170815
Will | Unincorporated Areas of Will County (16-05-6813P) | The Honorable Lawrence M. Walsh, County Executive, Will County, Will County Office Building, 302 North Chicago Street, Joliet, IL 60432 | Land Use Department, 58 East Clinton Street, Suite 100, Joliet, IL 60432 | http://www.msc.fema.gov/lomc | Nov. 28, 2017 | 170695
Will | Village of Romeoville (17-05-4409P) | The Honorable John D. Noak, Mayor, Village of Romeoville, 1050 West Romeo Road, Romeoville, IL 60446 | Village Hall, 1050 West Romeo Road, Romeoville, IL 60446 | http://www.msc.fema.gov/lomc | Dec. 22, 2017 | 170711
Iowa: Bremer | City of Waverly (17-07-0954P) | The Honorable Charles D. Infelt, Mayor, City of Waverly, 200 1st Street Northeast, Waverly, IA 50677 | City Hall, 200 1st Street Northeast, Waverly, IA 50677 | http://www.msc.fema.gov/lomc | Dec. 22, 2017 | 190030
Missouri:
St. Louis | City of Chesterfield (16-07-2013P) | The Honorable Bob Nation, Mayor, City of Chesterfield, Chesterfield City Hall, 690 Chesterfield Parkway West, Chesterfield, MO 63017 | City Hall, 690 Chesterfield Parkway West, Chesterfield, MO 63017 | http://www.msc.fema.gov/lomc | Dec. 5, 2017 | 290896
St. Louis | City of Creve Coeur (16-07-2013P) | The Honorable Barry Glantz, Mayor, City of Creve Coeur, Creve Coeur Government Center, 300 North New Ballas Road, Creve Coeur, MO 63141 | Government Center, 300 North Ballas Road, Creve Coeur, MO 63141 | http://www.msc.fema.gov/lomc | Dec. 5, 2017 | 290344
St. Louis | City of Town and Country (16-07-2013P) | The Honorable Jon F. Dalton, Mayor, City of Town and County, Municipal Center, 1011 Municipal Center Drive, Town and Country, MO 63131 | Municipal Center, 1011 Municipal Center Drive, Town and Country, MO 63131 | http://www.msc.fema.gov/lomc | Dec. 5, 2017 | 290389
St. Louis | Unincorporated Areas of St. Louis County (16-07-2013P) | Mr. Steven A. Stenger, County Executive, St. Louis County, St. Louis County Government Center, 41 South Central, Clayton, MO 63105 | St Louis County, Government Community Development, 121 South Meramec Avenue, Clayton, MO 63105 | http://www.msc.fema.gov/lomc | Dec. 5, 2017 | 290327
Nevada: Carson | City of Carson City (16-09-1091P) | The Honorable Robert Crowell, Mayor, City of Carson City, City Hall, 201 North Carson Street, Suite 2, Carson City, NV 89701 | Carson City Permit Center, 108 East Proctor Street, Carson City, NV 89701 | http://www.msc.fema.gov/lomc | Dec. 26, 2017 | 320001
Ohio:
Fairfield | City of Lancaster (17-05-3331P) | The Honorable David S. Smith, Mayor, City of Lancaster, Lancaster City Hall, 104 East Main Street, Room 101, Lancaster, OH 43130 | Municipal Building, 121 East Chestnut Street, Suite 100, Lancaster, OH 43130 | http://www.msc.fema.gov/lomc | Dec. 14, 2017 | 390161
Lake | City of Wickliffe (16-05-5396P) | The Honorable William A. Margalis, Mayor, City of Wickliffe, Wickliffe City Hall, 28730 Ridge Road, Wickliffe, OH 44092 | City Hall, Building Department, 28730 Ridge Road, Wickliffe, OH 44092 | http://www.msc.fema.gov/lomc | Dec. 21, 2017 | 390321
Oregon: Jackson | City of Medford (17-10-0050P) | The Honorable Gary Wheeler, Mayor, City of Medford, 411 West 8th Street, Medford, OR 97501 | City Hall, 411 West 8th Street, Medford, OR 97501 | http://www.msc.fema.gov/lomc | Dec. 1, 2017 | 410096
Washington: Island | Unincorporated Areas of Island County (17-10-1006P) | Mr. Richard Hannold, Commissioner, Island County, 1 Northeast 7th Street, Room 214, Coupeville, WA 98239 | Island County, Courthouse Annex, 1 Northeast 6th Street, Coupeville, WA 98239 | http://www.msc.fema.gov/lomc | Dec. 18, 2017 | 530312

[FR Doc. 2017-22018 Filed 10-11-17, 8:45 am]

BILLING CODE 9110-12-P